DEPARTMENT OF HEALTH AND HUMAN SERVICES

Office of the Secretary

[Document Identifier 0990-0421-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit an Information Collection Request (ICR), described below, to the Office of Management and Budget (OMB). The ICR is for extending the use of the approved information collection assigned OMB control number 0990-0421, which expires on July 31, 2017. Prior to submitting the ICR to OMB, OS seeks comments from the public regarding the burden estimate, below, or any other aspect of the ICR.

DATES: Comments on the ICR must be received on or before June 27, 2017.

ADDRESSES: Submit your comments to Information.CollectionClearance@hhs.gov or by calling (202) 795-7714.

SUPPLEMENTARY INFORMATION: When submitting comments or requesting information, please include the document identifier 0990-0421-60D for reference.

Information Collection Request Title: ASPE Generic Clearance for the Collection of Qualitative Research and Assessment.

OMB No.: 0990-0421.

Abstract: The Office of the Assistant Secretary for Planning and Evaluation (ASPE) is requesting an extension for their generic clearance for purposes of conducting qualitative research. ASPE conducts qualitative research to gain a better understanding of emerging health policy issues, develop future intramural and extramural research projects, and to ensure HHS leadership, agencies and offices have recent data and information to inform program and policy decision-making. ASPE is requesting approval for at least four types of qualitative research: (a) Interviews, (b) focus groups, (c) questionnaires, and (d) other qualitative methods. ASPE's mission is to advise the Secretary of the Department of Health and Human Services on policy development in health, disability, human services, data, and science, and provides advice and analysis on economic policy. ASPE leads special initiatives, coordinates the Department's evaluation, research and demonstration activities, and manages cross-Department planning activities such as strategic planning, legislative planning, and review of regulations. Integral to this role, ASPE will use this mechanism to conduct qualitative research, evaluation, or assessment, conduct analyses, and understand needs, barriers, or facilitators for HHS-related programs.

ASPE is requesting comment on the burden for qualitative research aimed at understanding emerging health and human services policy issues. The goal of developing these activities is to identify emerging issues and research gaps to ensure the successful implementation of HHS programs. The participants may include health and human services experts; national, state, and local health or human services representatives; public health, human services, or healthcare providers; and representatives of other health or human services organizations. The increase in burden from 747 in 2014 to 1,300 respondents in 2017 reflects an increase in the number of research projects conducted over the estimate in 2014.

Estimated Annualized Burden Table
Type of respondent | Form | Number of respondents | Number of responses per respondent | Average burden hours per response | Total burden hours
Health Policy Stakeholder | Qualitative Research | 1,300 | 1 | 1 | 1,300

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Terry S. Clark,
Asst Information Collection Clearance Officer.

[FR Doc. 2017-08599 Filed 4-27-17; 8:45 am]

BILLING CODE 4150-05-P